SMALL BUSINESS ADMINISTRATION

[Disaster Declaration # 10131]

Maine Disaster # ME-00002 Declaration of Economic Injury

AGENCY: U.S. Small Business Administration.

ACTION: Notice.

SUMMARY: This is a notice of an Economic Injury Disaster Loan (EIDL) declaration for the State of Maine, dated June 23, 2005.

Incident: Outbreak of red tide in the waters off Maine.

Incident Period: May 4, 2005 and continuing.

Effective Date: June 23, 2005.

EIDL Loan Application Deadline Date: March 23, 2006.

ADDRESSES: Submit completed loan applications to: U.S. Small Business Administration, Disaster Area Office 3, 14925 Kingsport Road Fort Worth, TX 76155.

FOR FURTHER INFORMATION CONTACT: Alan Escobar, Office of Disaster Assistance, U.S. Small Business Administration, 409 3rd Street, Suite 6050, Washington, DC 20416.

SUPPLEMENTARY INFORMATION: Notice is hereby given that as a result of the Administrator's EIDL declaration on June 23, 2005, applications for economic injury disaster loans may be filed at the address listed above or other locally announced locations.

The following areas have been determined to be adversely affected by the disaster:

Primary Counties

Cumberland, Hancock, Knox, Lincoln, Sagadahoc, Waldo, Washington, York

Contiguous Counties

Maine

Androscoggin, Aroostook, Kennebec, Oxford, Penobscot, Somerset

New Hampshire

Carroll, Rockingham, Strafford

The Interest Rate is: 4.000

The number assigned to this disaster for economic injury is 101310

The States which received an EIDL Declaration # are Maine and New Hampshire

(Catalog of Federal Domestic Assistance Number 59002)

Dated: June 23, 2005.
Hector V. Barreto,
Administrator.

[FR Doc. 05-13606 Filed 7-11-05; 8:45 am]

BILLING CODE 8025-01-P